COMMISSION ON CIVIL RIGHTS

Notice of Public Meeting of the Illinois Advisory Committee

Notice is hereby given, pursuant to the provisions of the rules and regulations of the U.S. Commission on Civil Rights (Commission), and the Federal Advisory Committee Act (FACA), that a fact finding meeting of the Illinois Advisory Committee to the Commission will convene at 9 a.m. and adjourn at 4:30 p.m. on August 11, 2010, at the National Museum of Mexican Art, 1852 W. 19th St., Chicago, IL 60608. The purpose of the meeting is to hear testimony regarding recommendations for addressing two health disparities topics: language barriers and food desserts. The meeting will consist of approximately six panels of local health disparities experts, community activists, health providers, and government officials providing their recommendations to these problems.

Members of the public are entitled to submit written comments; the comments must be received in the regional office by September 11, 2010. The address is 55 W. Monroe St., Suite 410, Chicago, IL 60603. Persons wishing to e-mail their comments, or to present their comments verbally at the meeting, or who desire additional information should contact Carolyn Allen, Administrative Assistant, 312-353-8311, TDD/TTY 312-353-8324], or by e-mail: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, http://www.usccr.gov, or to contact the Midwestern Regional Office at the above e-mail or street address.

The meeting will be conducted pursuant to the provisions of the rules and regulations of the Commission and FACA.

Dated in Washington, DC on July 9, 2010.
Peter Minarik, Acting Chief,
Regional Programs Coordination Unit.

[FR Doc. 2010-17127 Filed 7-13-10; 8:45 am]

BILLING CODE 6335-01-P